SECURITIES AND EXCHANGE COMMISSION

[Release No. 3306; File No.: 801-35969]

Investment Advisers Act of 1940; In the Matter of Creative Investment Research, Inc., 1050 17th Street, NW., Suite 1000, Washington, DC 20036; Notice of Intention To Cancel Registration Pursuant to Section 203(H) of the Investment Advisers Act of 1940

October 24, 2011

Notice is given that the Securities and Exchange Commission (the “Commission”) intends to issue an order, pursuant to Section 203(h) of the Investment Advisers Act of 1940 (the “Act”), cancelling the registration of Creative Investment Research, Inc., hereinafter referred to as the registrant.

Section 203(h) provides, in pertinent part, that if the Commission finds that any person registered under Section 203, or who has pending an application for registration filed under that section, is no longer in existence, is not engaged in business as an investment adviser, or is prohibited from registering as an investment adviser under section 203A, the Commission shall by order, cancel the registration of such person.

The registrant indicated on its most recent Form ADV filing that it is relying on rule 203A-2(b) to register with the Commission, which, at the time of the filing, provided an exemption from the prohibition on registration for a pension consultant if it provided investment advice to plans described in the rule that had an aggregate value of at least $50,000,000 in assets.¹ The Commission believes, based on the facts it has, that the registrant did not at the time of the Form ADV filing, and does not currently, provide investment advice to plans that have a sufficient aggregate asset value under the rule, and that it is therefore prohibited from registering as an investment adviser under section 203A of the Act. Accordingly, the Commission believes that reasonable grounds exist for a finding that this registrant is no longer eligible to be registered with the Commission as an investment adviser and that the registration should be cancelled pursuant to section 203(h) of the Act.

¹ Section 203A of the Act generally prohibits an investment adviser from registering with the Commission unless it meets certain requirements. Rule 203A-2 provides exemptions from the prohibition on Commission registration in section 203A of the Act. Effective September 19, 2011, rule 203A-2(b) was renumbered as rule 203A-2(a), and advisers relying on the rule to remain registered with the Commission are required to advise plans with an aggregate value of at least $200,000,000. See Rules Implementing Amendments to the Investment Advisers Act of 1940, Investment Advisers Act Release No. 3221 (June 22, 2011), available at http://www.sec.gov/rules/final/2011/ia-3221.pdf.

Any interested person may, by November 18, 2011, at 5:30 p.m., submit to the Commission in writing a request for a hearing on the cancellation, accompanied by a statement as to the nature of his interest, the reason for such request, and the issues, if any, of fact or law proposed to be controverted, and he may request that he be notified if the Commission should order a hearing thereon. Any such communication should be addressed: Secretary, Securities and Exchange Commission, 100 F Street, NE., Washington, DC 20549.

At any time after November 18, 2011, the Commission may issue an order cancelling the registration, upon the basis of the information stated above, unless an order for a hearing on the cancellation shall be issued upon request or upon the Commission's own motion. Persons who requested a hearing, or to be advised as to whether a hearing is ordered, will receive any notices and orders issued in this matter, including the date of the hearing (if ordered) and any postponements thereof. Any adviser whose registration is cancelled under delegated authority may appeal that decision directly to the Commission in accordance with rules 430 and 431 of the Commission's rules of practice (17 CFR 201.430 and 431).

For further information contact: Jennifer Porter, Senior Counsel at (202) 551-6787 (Office of Investment Adviser Regulation).

For the Commission, by the Division of Investment Management, pursuant to delegated authority.²
² 17 CFR 200.30-5(e)(2).
Kevin M. O'Neill,
Deputy Secretary.

[FR Doc. 2011-27900 Filed 10-27-11; 8:45 am]

BILLING CODE 8011-01-P